DEPARTMENT OF COMMERCE

Foreign-Trade Zones Board

[B-32-2020]

Foreign-Trade Zone (FTZ) 277—Western Maricopa County, Arizona; Authorization of Production Activity; Rauch North America, Inc. (Non-Alcoholic Beverages), Waddell, Arizona

On May 15, 2020, Rauch North America, Inc., submitted a notification of proposed production activity to the FTZ Board for its facility within FTZ 277, in Waddell, Arizona.

The notification was processed in accordance with the regulations of the FTZ Board (15 CFR part 400), including notice in the Federal Register inviting public comment (85 FR 33087-33088, June 1, 2020). On September 14, 2020, the applicant was notified of the FTZ Board's decision that no further review of the activity is warranted at this time. The production activity described in the notification was authorized, subject to the FTZ Act and the FTZ Board's regulations, including Section 400.14.

Dated: September 14, 2020.
Andrew McGilvray,
Executive Secretary.

[FR Doc. 2020-20518 Filed 9-16-20; 8:45 am]

BILLING CODE 3510-DS-P